DEPARTMENT OF ENERGY

[Docket No. PP-398]

Notice of Intent To Prepare an Environmental Impact Statement and To Conduct Public Scoping Meetings, and Notice of Floodplains and Wetlands Involvement; Great Northern Transmission Line

AGENCY: Department of Energy.

ACTION: Notice of Intent.

SUMMARY: The Department of Energy (DOE) announces its intent to prepare an environmental impact statement (EIS) to assess the potential environmental impacts from its proposed federal action of granting a Presidential permit to Minnesota Power to construct, operate, maintain, and connect a new electric transmission line across the U.S.-Canada border in northern Minnesota. The Great Northern Transmission Line Project Environmental Impact Statement (DOE/EIS-0499) will address potential environmental impacts from the proposed action and the range of reasonable alternatives.

The purpose of this Notice of Intent (NOI) is to inform the public about the proposed action, announce eight public scoping meetings, and solicit public comments on the scope of the EIS. Because the proposed project would involve actions in floodplains and wetlands, in accordance with 10 CFR part 1022, Compliance with Floodplain and Wetland Environmental Review Requirements, the EIS will include a floodplain and wetland assessment.

DATES: The public scoping period starts with the publication of this Notice in the Federal Register and will continue until August 11, 2014. Written and oral comments will be given equal weight, and DOE will consider all comments submitted or postmarked by August 11, 2014 in defining the scope of this EIS. Comments submitted or postmarked after that date will be considered to the extent practicable.

Eight public scoping meetings will be held between July 16 and July 24. Locations, dates, and start times for the public scoping meetings are listed in the SUPPLEMENTARY INFORMATION section of this NOI.

Requests to speak at any one or more public scoping meeting(s) should be received by Julie Ann Smith at the address indicated below on or before July 14, 2014; requests received by that date will be given priority in the speaking order. However, requests to speak also may be made at the scoping meetings.

ADDRESSES: Comments on the scope of the EIS and requests to be added to the document mailing list should be addressed to: Julie Ann Smith, Office of Electricity Delivery and Energy Reliability (OE-20), U.S. Department of Energy, 1000 Independence Avenue SW., Washington, DC 20585; by electronic mail to Juliea.Smith@hq.doe.gov; or by facsimile to 202-586-1472.

FOR FURTHER INFORMATION CONTACT: Julie Ann Smith at the addresses above, or at 202-586-7668. For general information on the DOE National Environmental Policy Act (NEPA) process, contact Ms. Carol M. Borgstrom, Director, Office of NEPA Policy and Compliance (GC-54) at: U.S. Department of Energy, 1000 Independence Avenue SW., Washington, DC 20585; by electronic mail at askNEPA@hq.doe.gov; by facsimile at 202-586-7031; by phone at 202-586-4600 or leave a message at 800-472-2756.

SUPPLEMENTARY INFORMATION: Executive Order (E.O.) 10485, as amended by E.O. 12038, requires that a Presidential permit be issued by DOE before electric transmission facilities may be constructed, operated, maintained, or connected at the U.S. international border. The E.O. provides that a Presidential permit may be issued after a finding that the proposed project is consistent with the public interest and after favorable recommendations from the U.S. Departments of State and Defense. In determining consistency with the public interest, DOE considers the potential environmental impacts of the proposed project under NEPA, determines the project's impact on electric reliability (including whether the proposed project would adversely affect the operation of the U.S. electric power supply system under normal and contingency conditions), and considers any other factors that DOE may find relevant to the public interest. The regulations implementing the E.O. have been codified at 10 CFR part 205. DOE's issuance of a Presidential permit indicates that there is no federal objection to the project, but does not mandate that the project be undertaken.

Minnesota Power, an operating division of ALLETE, Inc., applied on April 15, 2014, to DOE's Office of Electricity Delivery and Energy Reliability (OE) for a Presidential permit to construct, operate, maintain, and connect an approximately 220-mile, 500-kilovolt (kV) overhead, single-circuit, alternating current (AC) electric transmission system from the Canadian Province of Manitoba to the existing Blackberry Substation near Grand Rapids, Minnesota. After due consideration of the nature and extent of the proposed project, including evaluation of the “Information Regarding Potential Environmental Impacts” section of the Presidential permit application, DOE has determined that the appropriate level of NEPA review for this project is an EIS.

The Great Northern Transmission Line Presidential permit application, including associated maps and drawings, can be viewed or downloaded in its entirety from the OE program Web site at: http://energy.gov/oe/downloads/application-presidential-permit-oe-docket-no-pp-398-great-northern-transmission-line. Also available at this same OE Web site location is the May 14, 2014, Federal Register Notice of Receipt of Application (79 FR 27587).

The proposed federal action is the granting of the Presidential permit for the international border crossing. The proposed construction, operation, maintenance, and connection of the portion of the transmission line within the United States is a connected action to DOE's proposed action. DOE will analyze potential environmental impacts from the proposed federal action and the connected action in the EIS. The EIS will be prepared in accordance with NEPA of 1969, as amended (42 U.S.C. 4321 et seq.), the Council on Environmental Quality (CEQ) NEPA regulations (40 CFR parts 1500-1508), and the DOE NEPA implementing procedures (10 CFR part 1021). Because the proposed project may involve actions in floodplains and wetlands, in accordance with 10 CFR part 1022, Compliance with Floodplain and Wetland Environmental Review Requirements, the EIS will include a floodplain and wetland assessment. DOE will include a floodplain statement of findings in the final EIS or issue such statement separately.

The Minnesota Public Utilities Commission (MN PUC) regulates transmission line construction in the state of Minnesota: First, by determining whether there is a need for a transmission line through its Certificate of Need (CON) process; and second, through its Route Permit process. The CON process establishes the size, type and required end points of a proposed project. Minnesota Power filed its CON application for the proposed GNTL Project with the MN PUC on October 22, 2013, and anticipates a decision on the CON by May 2015.

Under the state's Power Plant Siting Act (PPSA), the MN PUC must also determine the route for the proposed line and any conditions it will require for the construction, operation, and maintenance of the proposed GNTL Project through its Route Permit process. Specifically, the PPSA requires proposals for high-voltage transmission lines (defined as a transmission line of 100 kV or more and one that is greater than 1,500 feet in length with associated facilities) to be issued a Route Permit by the MN PUC prior to construction. Minnesota Power filed its Route Permit application for the proposed GNTL Project concurrently with the DOE Presidential permit application on April 15, 2014. As part of the MN PUC Route Permit decision-making process, an environmental impact statement must be prepared.

DOE will act as federal joint lead agency with the Minnesota Department of Commerce—Energy Environmental Review and Analysis (DOC-EERA) acting as state joint lead agency per 40 CFR 1501.5(b). DOC-EERA prepares EISs for proposed high-voltage transmission lines pursuant to Minnesota Statute Section 216E.03, Subdivision 5. In order to avoid duplication with state environmental review procedures, DOE and DOC-EERA will prepare a single EIS to comply with environmental review requirements under NEPA and the PPSA.

DOE invites Tribal governments and federal, state, and local agencies with jurisdiction by law or special expertise with respect to environmental issues to be cooperating agencies in the preparation of the EIS, as defined at 40 CFR 1501.6.

The U.S. Army Corps of Engineers (USACE), St. Paul District, will be a cooperating agency on this EIS. A Department of the Army permit is expected to be required for proposed discharges of dredged or fill material into waters of the United States, including wetlands, under Section 404 of the Clean Water Act (33 U.S.C. 1344), and also for proposed crossing(s) of navigable waterways under Section 10 of the Rivers and Harbors Act (33 U.S.C. 403). Minnesota Power will apply to the USACE for the required Department of Army permit as part of the proposed GNTL Project.

Applicant's Proposal

The Applicant proposes to construct, operate, maintain, and connect a 220-mile, overhead, single-circuit 500 kV AC transmission line between the Minnesota-Manitoba border crossing northwest of Roseau, Minnesota, and the existing Blackberry 230/115 kV Substation near Grand Rapids, Minnesota. The Applicant's proposal also includes associated substation facilities and transmission system modifications at the Blackberry Substation site, and construction of a new 500 kV Series Compensation Station (a structure which will house the 500 kV series capacitor banks necessary for reliable operation and performance of the proposed transmission line). A new Blackberry 500 kV Substation would be required for the proposed Project and would be constructed adjacent to and east of the existing Blackberry 230/115 kV Substation. The proposed GNTL Project would carry hydropower generated by facilities operated by Manitoba Hydro, a Canadian electric utility, and would support the regional electric grid.

The proposed GNTL Project would be located on all new right-of-way (ROW) that would be approximately 200-feet wide. A wider ROW would be required for certain spans of the proposed Project, at angle and corner structures, for guyed structures, or where special design requirements are dictated by topography. Steel lattice tower structure types and configurations would be considered for the proposed Project to accommodate variations in terrain and land use including a self-supporting lattice structure, a lattice guyed-V structure, and a lattice guyed delta structure. The Applicant currently estimates approximately 4 to 5 structures per mile of transmission line with towers spaced approximately 1,000 to 1,450 feet apart, with shorter or longer spans as necessary. The type of structure in any given section of transmission line would be dependent on land type, land use, and potential effect on the surrounding landscape, and would typically range in height from approximately 100 feet above ground to approximately 150 feet above ground. In some instances, such as where the proposed Project crosses an existing transmission line, taller structures would be required. In cultivated lands, the Applicant would use self-supporting lattice structures (free-standing towers constructed in a crisscrossed pattern of steel beams) so as not to interfere with existing land use.

The Applicant proposes to expand the site of its existing Blackberry 230/115 kV Substation near Grand Rapids, Minnesota, to incorporate the new Blackberry 500 kV Substation, which would be constructed adjacent to and east of the existing substation. The 500 kV Substation would accommodate the new 500 kV line, existing 230kV lines, and all associated 500 kV and 230 kV equipment. Additionally, the proposed GNTL Project would require construction of a new 500 kV Series Compensation Station, which would be located within or adjacent to the final route approved by the State of Minnesota, and would include the 500 kV series capacitor banks necessary for reliable operation and performance of the proposed transmission line, and all associated equipment. The final location for the 500 kV Series Compensation Station would be determined by electric design optimization studies and final route selection. The Applicant has initiated the electric design optimization studies to identify generally what would be a preferred location of the 500 kV Series Compensation Station along the final route permitted by the state. Based on these studies, candidate sites in Minnesota include the overall midpoint of the line and at one-third of the overall transmission line distance from Blackberry to the existing Dorsey Substation in Manitoba, Canada. Minnesota Power will provide more information on these studies and the preferred location of the 500 kV Series Compensation Station when available.

The proposed GNTL Project (Blue Route) would originate at the Minnesota-Manitoba border roughly 1.4 miles west of Highway 89. It would proceed southeast 0.5 miles to 410th Street, approximately 0.16 of a mile from the intersection of 410th Street and County Road 3. The proposed GNTL Project would travel south 2 miles to 390th Street and turn east following 390th Street for 10.5 miles (where 390th Street then turns into County Road 118). At 0.25 miles from Highway 310 the proposed line would turn southeast and continue for another 12 miles. At 0.5 miles from 510th Avenue the proposed line would again turn and travel 2.3 miles east to join the existing Minnkota Power 230 kV line. The proposed GNTL Project would parallel the existing Minnkota Power 230 kV line southeast for 1.8 miles and then turn south where it would meet the existing Xcel 500 kV line. Beginning at a tenth of mile north of US Highway 11, the proposed transmission line would parallel the existing Xcel 500 kV line route for 36 miles after which it would turn east, leaving the Xcel 500 kV line 2 miles southeast of the intersection of Faunce Forest Road and 19th Street Southwest in Lake of the Woods County.

The proposed GNTL Project would proceed east for 5.8 miles and then turn northeast to rejoin the existing Minnkota Power 230 kV line at its intersection with Pitt Grade Trail. The proposed line would then parallel this existing 230 kV line in an easterly direction for 31 miles to a point 1.5 miles west of the County Road 86 in Koochiching County where it would then proceed southeast for 8.3 miles and then south for 1.8 miles. At this point, the proposed GNTL Project would be roughly 1.5 miles south from the intersection of County Road 32 and County Road 36 in Koochiching County. The line would then continue southeast for 21.3 miles and intersect Highway 71 roughly 4.5 miles northeast of Big Falls, where it would continue an additional 9.6 miles to the southeast where it would rejoin the existing Minnkota Power 230 kV line, following the existing line in a southerly direction for 12.3 miles.

The proposed GNTL Project would continue south for 3 miles following Deer River Line Road (also called County Road 62). The transmission line would turn east for 3.5 miles and then turn southeast again and travel 5 miles to Itasca County near the intersection of County Road 523 and South Lofgrin Forest Road. The proposed line would extend south for 6.4 miles, turning south, southeast for another 2.8 miles, and then head south for 11.5 miles. At 2.8 miles north of Scooty Lake, the proposed GNTL Project would continue to travel 7.5 miles south to County Road 530, where it would cross the West Fork Prairie River. At County Road 530, the proposed line would again turn south southwest and continue 6.5 miles to County Road 57. The line would turn south, southwest for 3.7 miles, and then head south for 3.8 miles to Diamond Lake Road. The route then heads south, southeast for 2.7 miles. At the Swan River, proposed GNTL Project heads south for 4.4 miles where it would meet an existing Minnesota Power 230 kV line, paralleling it for 1 mile to the existing Blackberry Substation near Grand Rapids, Minnesota.

Agency Purpose and Need, Proposed Action, and Alternatives

The DOE proposed federal action is the granting of a Presidential permit to Minnesota Power to construct, operate, maintain, and connect a new electric transmission line across the U.S.-Canada border northwest of Roseau, Minnesota. The Great Northern Transmission Line Project Environmental Impact Statement (DOE/EIS-0499) will address potential environmental impacts from the proposed action and the range of reasonable alternatives. The purpose and need for DOE's action is to decide whether to grant Minnesota Power a Presidential permit. It should be noted, however, that although the potential environmental impacts are important, they are not the only criteria that form the basis for the final permitting decision. DOE also considers the impact of the proposed action on electric reliability. If granted, the Presidential permit would authorize only that portion of the line that would be constructed, operated, and maintained wholly within the United States.

Four action alternatives (routes) for constructing the proposed transmission line inside the United States have been identified by the Applicant: Two overall proposed route alternatives (Blue Route and Orange Route) and one segment option proposed for each complete route alternative (Blue Route Segment C2 and Orange Route Segment J2, respectively). The Blue Route would parallel existing transmission lines for 84.2 miles, while the Orange Route would parallel existing transmission lines for 66.4 miles. The proposed route alternatives vary slightly in total length: 219.5 miles for the Blue Route, 232.7 miles for Blue Route Segment C2, 219.9 miles for the Orange Route and 222.8 total miles for Orange Route Segment J2. While the Blue Route is shorter in total length, it goes through undeveloped forest. Blue Route Segment C2 is longest in total length of the line and is closer to residences than the Blue Route alternative. The Orange Route alternative goes through undeveloped forest, whereas Orange Route Segment J2 is closer to residences. The majority of potentially impacted land for any route alternative would consist of woody wetlands and deciduous, evergreen, and mixed forest lands. Impacted agricultural land would include pasture and hay, row crops, and small grains. The combined Blackberry 500-kV Substation and the 500-kV Series Compensation Station for any route alternative would require approximately 25 acres.

An interactive map showing the proposed GNTL Project route alternative (shown on the map as the “Blue Route”), a second route alternative (shown on the map as the “Orange Route”), and two route alternative segment options (shown on the map as “Segments Options C2 and J2”) may be found at http://www.greatnortherntransmissionline.com/map/.

All route alternatives would cross the U.S.-Canada border in Roseau County, Minnesota, roughly 1.4 miles west of Highway 89. The Blue Route, the Applicant's preferred alternative, is described in detail above.

The northwestern-most portion (approximately 65 miles) of the Orange Route alternative would be collocated with the Blue Route; therefore, the descriptions of this portion of the routes are the same up to the point at which both propose route alternatives would meet up with the existing Xcel 500 kV transmission line. Once arriving at the existing Xcel 500 kV line, the Orange Route alternative would parallel the existing 500 kV line ROW, in a general southeast orientation, for approximately 60 miles into extreme southeast Lake of the Woods County, to a point approximately 0.5 miles west of State Highway 72 and 1 mile north of Beltrami County. At this point, the Orange Route would turn south for approximately 1 mile, where it would cross into Beltrami County, and continue south for an additional 4.6 miles, then would turn to head east for approximately 0.5 miles, crossing State Highway 72.

After crossing Highway 72, the Orange Route would turn southeast for 7.5 miles, crossing into Koochiching County, after which, the route would continue southeast for another 3 miles to a point approximately 0.5 miles east of Pine Island Road. At this point, the Orange Route alternative would turn south for 15.7 miles to the vicinity of Flowing Well Trail. Approximately 0.1 miles north of Flowing Well Trail, the line would turn east for 11.1 miles, to a point approximately 1.7 miles north of the City of Gemmell and 0.7 miles east of County Road 64. The Orange Route would then turn southeast for 13.0 miles, head east for another 4.5 miles to a point approximately 0.8 miles west of State Highway 6 and 1.3 miles north of the Itasca County Line. At this point, the Orange Route would turn southeast for 4.2 miles, crossing into Itasca County, before it would head east for 3.8 miles, to a point approximately 0.4 miles east of County Road 5 and 1.6 miles south of the City of Craigville.

The Orange Route alternative would turn southeast for 1.3 miles, and then head south for 1.7 miles to cross State Highway 1. After crossing State Highway 1, the proposed line would continue south for 2.4 miles, to a point approximately 2.4 miles east of State Highway 38, where it would then head east for 6.1 miles. At this point, the Orange Route would be approximately 2.4 miles west of the intersection between State Highway 1 and Bass Lake Campground Road, where it would veer southeast for 11.5 miles, to a point approximately 3 miles east of State Highway 65 and 0.6 miles north of County Road 52. At this location, this route alternative would follow a southern orientation for approximately 14.7 miles, crossing County Road 52, Wolf Lake Road (among others) and the West Fork Prairie River.

Approximately 2.8 miles west of State Highway 65 and 1.1 miles north of County Rd 57, the Orange Route alternative would turn southwest for 5.1 miles, before it would follow a general south orientation for another 8.8 miles to meet up with an existing Minnesota Power 115 kV transmission ROW. The Orange Route would continue south, paralleling the existing 115 kV line for 2.7 miles, then would veer southeast at Diamond Lake Rd and crossing U.S. Highway 169 between the Cities of Taconite and Marble. After crossing Highway 169, this route alternative would continue southeast for another 4.0 miles, crossing the Swam River. Approximately 0.3 miles north of Foot Lake, the route would then turn south for 1.1 miles, where it meets up with the existing Minnesota Power 115 kV line. The Orange Route would parallel this existing 115 kV line ROW southeast for 1.4 miles, where it would turn south for another 0.8 miles, terminating at the existing Blackberry Substation near Grand Rapids, Minnesota.

The Blue Route Segment C2 alternative would be the same as the proposed Blue Route alternative until the line reaches a point roughly 1.5 mile south from the intersection of County Road 32 and County Road 36 in Koochiching County. From this point the Blue Route Segment C2 alternative would follow the existing Minnkota and Minnesota Power 230 kV transmission lines east and then head south for 47.0 miles to the point where the Blue Route alternative would follow the existing Minnkota Power 230 kV line.

The Orange Route Segment J2 alternative would be the same as the Orange Route until the line would reach approximately 5.0 miles northeast of Kelliher. From this point, the Orange Route Segment J2 would head southeast for 2.5 miles, turn south for 6.0 miles, and then proceed southeast for 1.0 mile to County Road 1. It would continue southeast for 1.0 mile, head east for 24.0 miles to County Road 6, continuing east for another 2.0 miles. The Orange Route Segment J2 alternative would then head southeast for 3.0 miles, cross TH 1, and turn slightly east for 2.0 miles, crossing TH 38, where it would join back up with the Orange Route alternative.

Under the No Action alternative, DOE would not grant a Presidential permit for the proposed project. Under the No Action alternative, the EIS assumes for purposes of analysis that the proposed line and associated facilities would not be constructed.

Identification of Environmental Issues

The EIS will examine potential public health and safety effects and environmental impacts in the U.S. from the proposed transmission facilities. This notice is intended to inform agencies and the public of the proposed project, and to solicit comments and suggestions for consideration in the preparation of the EIS. To help the public frame its comments, the following is a list of examples of several potential environmental issues that DOE has identified for analysis:

1. Protected, threatened, endangered, or sensitive species of animals or plants, or their critical habitats: The EIS will consider the potential effects of the construction and operation of the project on protected or candidate species, including the Canada lynx (federally listed threatened species), piping plover (federally listed threatened species), Western prairie fringed orchid (federally listed threatened species), Sprague's pipit (federally listed threatened species), Poweshiek skipperling (proposed federally listed endangered species as of October 24, 2013), Dakota skipper (proposed federally listed threatened species as of October 24, 2013), and Northern long-eared bat (proposed federally listed endangered species as of October 2, 2013).

2. Biological resources: The EIS will consider the potential effects of the construction and operation of the project on shellfish, insects, birds and other wildlife, as well as effects on forests, shrubland, wetland, peatland, and grassland plant species, and the potential for introduction of invasive species.

3. Floodplains and wetlands: The EIS will consider the potential effects of the construction and operation of the project on freshwater floodplains and wetlands, including those associated with peatland and lowland forest type vegetation, as well as calcareous fens communities.

4. Cultural or historic resources: The EIS will consider the potential effects of the construction and operation of the project on archeological, architectural, and Traditional Cultural Properties (i.e., properties of religious and cultural importance), National Historic Landmarks, historic properties currently listed and potentially eligible for listing on the National Historic Register, prehistoric sites, and cultural landscape.

5. Human health and safety: The EIS will consider the nature and potential effects of electric and magnetic fields that may be generated by the operation of the project.

6. Air quality: The EIS will consider the potential effects of the construction and operation of the project on air quality, including the emission and effects of greenhouse gases such as carbon dioxide.

7. Soil: The EIS will consider the potential effects of the construction and operation of the project on the loss or disturbance of soils.

8. Water resources: The EIS will consider the potential effects of the construction and operation of the project on a diverse set of water resource types that are found throughout the proposed project area including, but not limited to, major watersheds, public water inventory watercourses and basins, groundwater, trout streams, and impaired water bodies.

9. Land use: The EIS will consider the potential effects of the installation and operation of the project on land uses, including agricultural lands, parks, recreational areas, and other public lands.

10. Visual resources: The EIS will consider the potential effects of the installation and operation of the project on visual resources, mainly from tower structures and conductors that could be viewed from residences and where recreational trails are either crossed or paralleled by route alternatives including, but not limited to, potential effects to recreational users of the Big Fork Canoe and Red Lake Canoe Trails in Koochiching County and Beltrami County, respectively, and Big Bog State Recreation Area in Beltrami County.

11. Noise: The EIS will consider the potential effects of the installation and operation of the project on noise levels at location(s) along the proposed line as well as at the location(s) of the 500-kV Blackberry Substation and the 500 kV Series Compensation Station.

12. Socioeconomics: This EIS will consider potential impacts on community services.

This list is not intended to be all inclusive or to imply any predetermination of impacts. DOE invites interested parties to suggest specific issues within these general categories, or other issues not included above, to be considered in the EIS.

Scoping Process

Interested parties are invited to participate in the scoping process, both to help define the environmental issues to be analyzed and to identify the range of reasonable alternatives. DOE invites interested agencies, organizations, Native American tribes, and members of the public to submit comments to assist in identifying significant environmental issues and in determining the appropriate scope of the EIS. Written and oral comments will be given equal weight. Public scoping meetings will be held at the locations, dates, and times as indicated below:

1. Roseau, MN: Roseau Civic Center, 121 Center Street East, Roseau, MN, 56751; Wednesday. July 16, 2014, at 11:00 a.m.

2. Baudette, MN: Lake of the Woods School, 236 15th Ave. SW., Baudette, MN, 56623; Wednesday, July 16, 2014, at 6:00 p.m.

3. Littlefork, MN: Littlefork Community Center, 220 Main Street, Littlefork, MN, 56653; Thursday, July 17, 2014, at 11:00 a.m.

4. International Falls, MN: AmericInn, 1500 Highway 71, International Falls, MN, 56649; Thursday, July 17, 2014, 6:00 p.m.

5. Kelliher, MN: Kelliher Public School, 345 4th Street NW., Kelliher, MN, 56650; Wednesday, July 23, 2014, at 11:00 a.m.

6. Bigfork, MN: Bigfork School, 100 Huskie Boulevard, Bigfork, MN, 56628; Wednesday, July 23, 2014, at 6:00 p.m.

7. Grand Rapids, MN: Sawmill Inn, 2301 South Hwy 169, Grand Rapids, MN, 55744; Thursday, July 24, 2014, at 11:00 a.m.

8. Grand Rapids, MN: Sawmill Inn, 2301 South Hwy 169, Grand Rapids, MN, 55744; Thursday, July 24, 2014, at 6:00 p.m.

The scoping meetings will be structured in two parts: first, a “workshop” period with presentations on the proposed GNTL Project, and the state and federal decisions, followed by informal discussion that will not be recorded; and, second, the formal taking of comments with transcription by a court stenographer. The meetings will provide interested parties the opportunity to view proposed project exhibits, ask questions, and make comments. The Applicant, DOE, and MN DOC-EERA will be available to answer questions and provide additional information to attendees to the extent that additional information is available at this early stage of the proceedings.

Persons submitting comments during the scoping process, whether orally or in writing, will receive either paper or electronic copies of the draft EIS, according to their preference. Persons who do not wish to submit comments or suggestions at this time but who would like to receive a copy of the document for review and comment when it is issued should notify Julie Ann Smith as provided above, with their paper-or-electronic preference.

EIS Preparation and Schedule

In preparing the draft EIS, DOE will consider comments submitted during the scoping period. They can be submitted to Julie Ann Smith either electronically or by paper copy; if the latter, consider using a delivery service because materials submitted by regular mail are subject to security screening, which both causes extended delay and potential damage to the contents. DOE will summarize all comments received in a “Scoping Report” that will be available on a project EIS Web site, and will be distributed either electronically to all parties of record for whom we have an email address, or by mailing paper copies upon request. DOE and the MN DOC-EERA expect to issue the draft GNTL EIS in February 2015 and the final EIS in July 2015.

Issued in Washington, DC, on June 23, 2014.
Patricia A. Hoffman,
Assistant Secretary, Office of Electricity Delivery and Energy Reliability.

[FR Doc. 2014-15070 Filed 6-26-14; 8:45 am]

BILLING CODE 6450-01-P